ENVIRONMENTAL PROTECTION AGENCY

40 CFR Part 51

[FRL-7540-3]

RIN 2060-AJ99

Draft Regulatory Text for Proposed Rule To Implement the 8-Hour Ozone National Ambient Air Quality Standard

AGENCY: Environmental Protection Agency (EPA).

ACTION: Notice of availability.

SUMMARY: Notice is hereby given that the Environmental Protection Agency (EPA) has developed draft regulatory text to accompany the proposed rule to implement the 8-hour ozone national ambient air quality standard (NAAQS) which was published on June 2, 2003 (68 FR 32802). If, after notice and comment, we adopt approaches other than those reflected by the draft regulatory text, the regulatory text we promulgate at the time of our final action will incorporate the approaches we adopt.

DATES: Comments must be received on or before September 5, 2003.

ADDRESSES: Comments on the draft regulatory text should be submitted to Docket #OAR 2003-0079. When mailing documents, commnents or requests to the EPA Docket Center through the U.S. Postal Service, please use the following address: U.S. Environmental Protection Agency, EPA West (Air Docket), 1200 Pennsylvania Avenue, NW., Room B108, Mail Code 6102T, Washington, DC 20460. The normal business hours are 8:30 a.m. to 4:30 p.m., Monday through Friday, excluding Federal holidays. Comments can be submitted to the address above, by fax (202) 566-1741, or by e-mail to A-and-R-Docket@epa.gov. The voice telephone number is (202) 566-1742. In addition, we have placed a variety of materials regarding the 8-hour ozone implementation proposed rule on the Web site: http://www.epa.gov/ttn/naaqs/ozone/o3imp8hr. While the Web site is not an exact duplicate of the Air Docket, we have placed materials that we have generated and materials that have been submitted in electronic format on the Web site.

The draft regulatory text is available for public inspection at EPA's Web site at: www.epa.gov/ttn/naaqs/ozone/o3imp8hr and at the Office of Air and Radiation (OAR) Docket Center, Docket Number OAR 2003-0079, respectively. Copies of the draft regulatory text can also be obtained from the Ozone Policy and Strategies Group, Office of Air Quality Planning and Standards (C539-02), U.S. Environmental Protection Agency, Research Triangle Park, NC 27711.

FOR FURTHER INFORMATION CONTACT: Mr. John Silvasi, Office of Air Quality Planning and Standards, U.S. Environmental Protection Agency, Mail Code C539-02, Research Triangle Park, NC 27711, phone number (919) 54l-5666 or by e-mail at: silvasi.john@epa.gov or Ms. Denise Gerth, Office of Air Quality Planning and Standards, U.S. Environmental Protection Agency, Mail Code C539-02, Research Triangle Park, NC 27711, phone number (919) 54l-5550 or by e-mail at: gerth.denise@epa.gov.

SUPPLEMENTARY INFORMATION: The draft regulatory text for the 8-hour ozone implementation proposed rule is intended to accompany the June 2, 2003, proposed rule to implement the 8-hour ozone NAAQS. The draft regulatory text contains most of the major elements of the implementation approach, e.g., the transition from the 1-hour to the 8-hour ozone NAAQS and how to implement the Clean Air Act's provisions related to anti-backsliding. In the draft regulatory text, we are not yet addressing the options concerning new source review, i.e., the transitional program and the Clean Air Development Communities program.

The June 2, 2003 proposed rule contains the background discussion for the draft regulatory text. The June 2, 2003 proposal sets forth for comment several options for certain features or plan elements; the draft regulatory text provides the regulatory text for only one of the options being proposed for each feature or element to demonstrate how the regulatory text would appear for that set of options. Selection of a particular option was generally based on the preferences stated in the June 2, 2003 proposal; however, this selection should not be interpreted as a decision by EPA to proceed with that option in the final rule, since comments are still being received on the June 2, 2003, proposal.

The draft regulatory text would also amend 40 CFR part 81 by adding and reserving a new subpart E, which would be used to identify the area designations and classifications for the 1-hour standard in place at the time the 1-hour standard no longer applies to each area; this is being done to implement the proposed rule on anti-backsliding.

A. How Can I Get Copies of This Document?

1. Docket. The EPA has established an official docket for this action under Docket ID Number 2003-0079. The official public docket consists of the documents specifically referenced in this action, any public comments received, and other information related to this action. Although a part of the official docket, the public docket does not include Confidential Business Information or other information whose disclosures is restricted by statute. The official public docket is the collection of materials that is available for public viewing at the OAR Docket Center, (EPA/DC) EPA West, Room B102, 1301 Constitution Avenue, NW., Washington, DC. The EPA Docket Center Public Reading Room is open from 8:30 a.m. to 4:30 p.m., Monday through Friday, excluding legal holidays. The telephone number for the Public Reading Room is (202) 566-1744, and the telephone number for the OAR Docket is (202) 566-1742.

List of Subjects in 40 CFR Part 51

Environmental protection, Air pollution control, Intergovernmental relations, Ozone, Particulate matter, Transportation, Volatile organic compounds.

Authority: 42 U.S.C. 7408, 42 U.S.C. 7410, 42 U.S.C. 7501-7511f; 42 U.S.C. 7601(a)(1).

Dated: July 28, 2003.
Tom Curran,
Acting Director, Office of Air Quality Planning and Standards.

[FR Doc. 03-20030 Filed 8-5-03; 8:45 am]

BILLING CODE 6560-50-P